DEPARTMENT OF HEALTH AND HUMAN SERVICES

Centers for Medicare & Medicaid Services

[CMS-1202-CN]

Medicare Program; Prospective Payment System and Consolidated Billing for Skilled Nursing Facilities—Correction Notice

AGENCY: Centers for Medicare & Medicaid Services (CMS), HHS.

ACTION: Correction notice.

SUMMARY: This correction notice corrects technical errors that appeared in the notice published in the Federal Register on July 31, 2002 entitled “Medicare Program; Prospective Payment System and Consolidated Billing for Skilled Nursing Facilities—Update.”

EFFECTIVE DATE: This correction is effective October 1, 2002.

FOR FURTHER INFORMATION CONTACT: Bill Ullman, (410) 786-5667.

SUPPLEMENTARY INFORMATION: In the July 31, 2002 notice entitled “Prospective Payment System and Consolidated Billing for Skilled Nursing Facilities—Update” (67 FR 49798), there were two technical errors in the preamble involving the Skilled Nursing Facilities Prospective Payment System (SNF PPS) wage index values. In addition, the list of urban areas in one of the wage index tables inadvertently omitted the name of a constituent county for a particular urban area. Finally, the preamble explanation of another table, Table 12, inadvertently cited the wrong figure from that table. Accordingly, we are correcting the SNF PPS wage index values and the list of urban areas, as published in Table 7, and are also correcting the total change figure provided in the explanation of Table 12.

Specifically, in the discussion of Table 12 (“Projected Impact of FY 2003 Update to the SNF PPS”) that appeared on page 49817, the explanation of column 5 of that table erroneously cited the figure at the bottom of the column (−9.1 percent) as the projected total change in aggregate payments for FY 2003. In fact, the figure at the bottom of column 5 represents the projected change in payments only for voluntary facilities, while the figure representing the total projected change for all facilities (−8.8 percent) actually appears at the top of column 5.

In addition, in Table 7, the wage index value for the Kankakee, IL Metropolitan Statistical Area (MSA) (area 3740) is corrected from 0.8122 to 1.0790, and the wage index value for the Killeen-Temple, TX MSA (area 3810) is corrected from 0.9570 to 1.0399. In addition, the county of Bell, TX is added to the list of constituent counties for the Killeen-Temple, TX MSA (area 3810). Finally, in the discussion of Table 12, the figure representing the projected decrease in aggregate payments is corrected from 9.1 percent to 8.8 percent. These corrections are effective October 1, 2002.

In accordance with our longstanding policies, these technical and tabulation errors are being corrected prospectively, effective October 1, 2002. This correction notice conforms the published SNF PPS wage index values to the prospectively revised values. As such, this correction does not represent any changes to the policies set forth in the notice.

The corrections appear in this document under the heading “Correction of Errors.” The provisions in this correction notice are effective as if they had been included in the document published in the Federal Register on July 31, 2002.

Waiver of Proposed Rulemaking

We ordinarily publish a notice of proposed rulemaking in the Federal Register to provide a period for public comment before provisions of a notice such as this take effect. We can waive this procedure, however, if we find good cause that a notice and comment procedure is impracticable, unnecessary, or contrary to the public interest and incorporate a statement of the finding and its reasons in the notice issued.

We find it unnecessary to undertake notice and comment rulemaking because this notice merely provides technical corrections to the regulations and does not make any substantive changes to the regulations. Therefore, for good cause, we waive notice and comment procedures.

Correction of Errors

In FR Doc. 02-19373 of July 31, 2002 (67 FR 49798), we are making the following corrections:

Corrections to Preamble

1. On page 49809, in column 3 of Table 7, “Wage Index for Urban Areas,” the entry of “0.8122” for the Kankakee, IL MSA (area 3740) is revised to read “1.0790” (effective October 1, 2002).

2. On page 49809, in column 3 of Table 7, “Wage Index for Urban Areas”, the entry of “0.9570” for the Killeen-Temple, TX MSA (area 3810) is revised to read “1.0399” (effective October 1, 2002).

3. On page 49809, in column 3 of Table 7, “Bell, TX” is added to the list of constituent counties for the Killeen-Temple, TX MSA (area 3810) (effective October 1, 2002).

4. On page 49817, in column 3, in the fifth paragraph, the phrase “9.1 percent” is revised to read “8.8 percent.”

Authority: Section 1888 of the Social Security Act (42 U.S.C. 1395yy))

(Catalog of Federal Domestic Assistance Program No. 93-773, Medicare— Hospital Insurance; and Program No. 93.774, Medicare—Supplementary Medical Insurance Program)
Dated: December 7, 2002.
Ann Agnew,
Executive Secretary to the Department.

[FR Doc. 02-31408 Filed 12-26-02; 8:45 am]

BILLING CODE 4120-01-P